NATIONAL FOUNDATION ON THE ARTS AND THE HUMANITIES

Institute of Museum and Library Services

Submission for OMB Review, Comment Request, Proposed Collection: 2025-2027 Museum Grants for American Latino History and Culture Notice of Funding Opportunity

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. The purpose of this Notice is to solicit comments about this assessment process, instructions, and data collections.

A copy of the proposed information collection request can be obtained by contacting the individual listed below in the ADDRESSES section of this notice.

DATES: Written comments must be submitted to the office listed in the ADDRESSES section below on or before July 21, 2024.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Gibran Villalobos, Senior Program Officer, Office of Museum Services, Institute of Museum and Library Services, 955 L'Enfant Plaza North SW, Suite 4000, Washington, DC 20024-2135. Mr. Villalobos can be reached by telephone at 202-653-4649, or by email at gvillalobos@imls.gov. Persons who are deaf or hard of hearing (TTY users) can contact IMLS at 202-207-7858 via 711 for TTY-Based Telecommunications Relay Service.

SUPPLEMENTARY INFORMATION: The goal of the Museum Grants for American Latino History and Culture program is to support projects that build the capacity of American Latino history and culture museums to serve their communities as well as projects that broadly advance the growth and development of a professional workforce in American Latino institutions. The American Latino History and Culture Program was authorized for creation by the National Museum of the American Latino Act in 2020 (20 U.S.C. 80u), the same Act that authorized the creation of a new Smithsonian National Museum of the American Latino.

Current Actions: This is to request a new clearance for a Notice of Funding Opportunity for the Museum Grants for American Latino History and Culture protram. A 60-Day Notice was published in the Federal Register on March 21, 2024 (89 FR 20253). The agency received and responded to one comment in response to this notice.

Agency: Institute of Museum and Library Services.

Title of Collection: 2025-2027 Museum Grants for American Latino History and Culture Notice of Funding Opportunity.

OMB Control Number: 3137-NEW.

Agency Number: 3137.

Affected Public: American Latino Museums that offer or wish to offer American Latino art, history, and culture.

Total Estimated Number of Annual Responses: 60.

Frequency of Response: Once per year.

Average Hours per Response: 45.

Total Estimated Number of Annual Burden Hours: 2,700.

Total Annual Cost Burden: $87,615.

Total Annual Federal Costs: $9,400.

Dated: June 14, 2024.
Suzanne Mbollo,
Grants Management Specialist, Institute of Museum and Library Services.

[FR Doc. 2024-13577 Filed 6-20-24; 8:45 am]

BILLING CODE 7036-01-P